FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011602-009.

Title: Grand Alliance Agreement II.

Parties: Hapag-Lloyd AG; CP Ships (UK) Limited; CP Ships USA LLC; Nippon Yusen Kaisha; and Orient Overseas Container Line, Inc.; Orient Overseas Container Line Limited; and Orient Overseas Container Line (Europe) Limited.

Filing Party: Wayne R. Rohde, Esq.; Sher & Blackwell LLP; 1850 M Street, NW., Suite 900; Washington, DC 20036.

Synopsis: The amendment adds a provision dealing with the employment of U.S. flag vessels under the agreement and updates Hapag-Lloyd's corporate name.

Agreement No.: 011971.

Title: USL/ANL Space Charter Agreement.

Parties: U.S. Lines Limited and ANL Singapore Pte Ltd.

Filing Party: Robert B. Yoshitomi, Esq.; Nixon Peabody LLP; 2040 Main Street, Suite 850; Irvine, CA 92614.

Synopsis: The agreement would authorize USL to charter space to ANL in the trade between Asia, Australia, and New Zealand and the U.S. Pacific Coast.

By order of the Federal Maritime Commission.
Dated: August 18, 2006.
Bryant L. VanBrakle,
Secretary.

[FR Doc. E6-13977 Filed 8-22-06; 8:45 am]

BILLING CODE 6730-01-P